DEPARTMENT OF ENERGY

Federal Energy Regulatory Commission

Combined Notice of Filings #2

December 21, 2010.

Take notice that the Commission received the following electric rate filings:

Docket Numbers: ER11-2438-000.

Applicants: ASC Energy Services, Inc.

Description: ASC Energy Services, Inc. submits tariff filing per 35.12: Market-Based Rate Initial Tariff Baseline to be effective 2/28/2011.

Filed Date: 12/21/2010.

Accession Number: 20101221-5085.

Comment Date: 5 p.m. Eastern Time on Tuesday, January 11, 2011.

Docket Numbers: ER11-2439-000.

Applicants: PacifiCorp.

Description: PacifiCorp submits tariff filing per 35.13(a)(2)(iii): WAPA-Black Hills Windstar Boundary Metering Agreement to be effective 12/31/2010.

Filed Date: 12/21/2010.

Accession Number: 20101221-5086.

Comment Date: 5 p.m. Eastern Time on Tuesday, January 11, 2011.

Docket Numbers: ER11-2440-000.

Applicants: Cleco Power LLC.

Description: Cleco Power LLC submits tariff filing per 35: Attachment C Compliance Filing to be effective 4/1/2011.

Filed Date: 12/21/2010.

Accession Number: 20101221-5090.

Comment Date: 5 p.m. Eastern Time on Tuesday, January 11, 2011.

Docket Numbers: ER11-2441-000.

Applicants: Cleco Power LLC.

Description: Cleco Power LLC submits tariff filing per 35: 2010.12.21 Attachment I to be effective 1/1/2011.

Filed Date: 12/21/2010.

Accession Number: 20101221-5109.

Comment Date: 5 p.m. Eastern Time on Tuesday, January 11, 2011.

Docket Numbers: ER11-2442-000.

Applicants: Cleco Power LLC.

Description: Cleco Power LLC submits tariff filing per 35: 2010.12.21 Attachment E to be effective 1/1/2011.

Filed Date: 12/21/2010.

Accession Number: 20101221-5110.

Comment Date: 5 p.m. Eastern Time on Tuesday, January 11, 2011.

Docket Numbers: ER11-2443-000.

Applicants: Portland General Electric Company.

Description: Portland General Electric Company submits tariff filing per 35: Order No. 739 Compliance Filing to be effective 12/21/2010.

Filed Date: 12/21/2010.

Accession Number: 20101221-5111.

Comment Date: 5 p.m. Eastern Time on Tuesday, January 11, 2011.

Docket Numbers: ER11-2444-000.

Applicants: PJM Interconnection, L.L.C., Virginia Electric and Power Company.

Description: PJM Interconnection, L.L.C. submits tariff filing per 35.13(a)(2)(iii): Virginia Electric and Power's Notice of Assignment of WDSA No. 2658 to be effective 11/18/2010.

Filed Date: 12/21/2010.

Accession Number: 20101221-5112.

Comment Date: 5 p.m. Eastern Time on Tuesday, January 11, 2011.

Docket Numbers: ER11-2445-000.

Applicants: San Diego Gas & Electric Company.

Description: San Diego Gas & Electric Company submits tariff filing per 35.13(a)(2)(ii): SDG&E RS Update to Transmission Owner Filing to be effective 12/21/2010 under ER11-02445-000 Filing Type: 340.

Filed Date: 12/21/2010.

Accession Number: 20101221-5142.

Comment Date: 5 p.m. Eastern Time on Tuesday, January 11, 2011.

Docket Numbers: ER11-2446-000.

Applicants: Blue Pilot Energy, LLC.

Description: Blue Pilot Energy, LLC submits tariff filing per 35.12: Blue Pilot Energy MBR Tariff to be effective 12/27/2010.

Filed Date: 12/21/2010.

Accession Number: 20101221-5146.

Comment Date: 5 p.m. Eastern Time on Tuesday, January 11, 2011.

Docket Numbers: ER11-2447-000.

Applicants: Pacific Northwest Generating Cooperative, Inc.

Description: Pacific Northwest Generating Cooperative, Inc. submits tariff filing per 35.1: Baseline Tariff Filing to be effective 12/21/2010.

Filed Date: 12/21/2010.

Accession Number: 20101221-5147.

Comment Date: 5 p.m. Eastern Time on Tuesday, January 11, 2011.

Docket Numbers: ER11-2448-000.

Applicants: NorthWestern Corporation.

Description: NorthWestern Corporation submits tariff filing per 35: Single Tariff Sheet Designating Revised Colstrip Project Transmission Agreement to be effective 12/21/2010.

Filed Date: 12/21/2010.

Accession Number: 20101221-5148.

Comment Date: 5 p.m. Eastern Time on Tuesday, January 11, 2011.

Docket Numbers: ER11-2449-000.

Applicants: Connecticut Gas & Electric, Inc.

Description: Connecticut Gas & Electric, Inc. submits tariff filing per 35.12: Connecticut Gas & Electric, Inc. Application for Market-Based Rates to be effective 2/15/2011.

Filed Date: 12/21/2010.

Accession Number: 20101221-5155.

Comment Date: 5 p.m. Eastern Time on Tuesday, January 11, 2011.

Docket Numbers: ER11-2450-000.

Applicants: PJM Interconnection, L.L.C.

Description: PJM Interconnection, L.L.C. submits tariff filing per 35.13(a)(2)(iii): WMPA No. 2708, Queue W1-059, Maurice Soussa and JCPL to be effective 11/24/2010.

Filed Date: 12/21/2010.

Accession Number: 20101221-5164.

Comment Date: 5 p.m. Eastern Time on Tuesday, January 11, 2011.

Docket Numbers: ER11-2451-000.

Applicants: California Independent System Operator Corporation.

Description: California Independent System Operator Corporation submits tariff filing per 35.13(a)(2)(iii): 2010-12-21 CAISO Service Agreement 1828 LGIA with Palen Solar II to be effective 12/22/2010.

Filed Date: 12/21/2010.

Accession Number: 20101221-5167.

Comment Date: 5 p.m. Eastern Time on Tuesday, January 11, 2011.

Docket Numbers: ER11-2452-000.

Applicants: Alabama Power Company.

Description: Alabama Power Company submits tariff filing per 35: Attachment C and Attachment O Compliance Filing to be effective 4/1/2011.

Filed Date: 12/21/2010.

Accession Number: 20101221-5172.

Comment Date: 5 p.m. Eastern Time on Tuesday, January 11, 2011.

Docket Numbers: ER11-2454-000.

Applicants: New York Independent System Operator, Inc.

Description: New York Independent System Operator, Inc. submits tariff filing per 35.13(a)(2)(iii): Section 205 Enhanced Shortage Pricing to be effective 3/15/2011.

Filed Date: 12/21/2010.

Accession Number: 20101221-5178.

Comment Date: 5 p.m. Eastern Time on Tuesday, January 11, 2011.

Take notice that the Commission received the following electric securities filings:

Docket Numbers: ES11-10-000.

Applicants: Northwestern Corporation.

Description: NorthWestern's Response to FERC Staff Informal Requests and Renewed Request for Expedited Action.

Filed Date: 12/21/2010.

Accession Number: 20101221-5065.

Comment Date: 5 p.m. Eastern Time on Thursday, December 30, 2010.

Docket Numbers: ES11-12-000.

Applicants: PJM Interconnection L.L.C.

Description: Application of PJM Interconnection L.L.C. for an Order Authorizing the Issuance of Securities.

Filed Date: 12/21/2010.

Accession Number: 20101221-5131.

Comment Date: 5 p.m. Eastern Time on Tuesday, January 11, 2011.

Take notice that the Commission received the following open access transmission tariff filings:

Docket Numbers: OA11-3-000.

Applicants: Cedar Creek II, LLC.

Description: Cedar Creek II, LLC submits its Application for waivers of FERC's Open Access Transmission Tariff, OASIS, and Standards of Conduct requirements applicable to transmission providers.

Filed Date: 12/20/2010.

Accession Number: 20101220-5256.

Comment Date: 5 p.m. Eastern Time on Monday, January 10, 2011.

Take notice that the Commission received the following public utility holding company filings:

Docket Numbers: PH11-9-000.

Applicants: SteelRiver Infrastructure Partners LP.

Description: Form 65-B of SteelRiver Infrastructure Partners LP.

Filed Date: 12/20/2010.

Accession Number: 20101220-5258.

Comment Date: 5 p.m. Eastern Time on Monday, January 10, 2011.

Take notice that the Commission received the following electric reliability filings:

Docket Numbers: RR10-13-000.

Applicants: North American Electric Reliability Corporation.

Description: Compliance Filing of the North American Electric Reliability Corporation in Response to October 21, 2010 Order on 2011 Business Plans and Budgets.

Filed Date: 12/17/2010.

Accession Number: 20101217-5194.

Comment Date: 5 p.m. Eastern Time on Friday, January 7, 2011.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. 2010-33153 Filed 1-3-11; 8:45 am]

BILLING CODE 6717-01-P